THE NATIONAL FOUNDATION ON THE ARTS AND THE HUMANITIES

Meetings of Humanities Panel

AGENCY: The National Endowment for the Humanities.

ACTION: Cancellation of panel meeting.

SUMMARY: Pursuant to the provisions of the Federal Advisory Comittee Act (Public Law 92-463, as amended), notice is hereby given that the following meeting of the Humanities Panel at the Old Post Office, 1100 Pennsylvania Avenue, NW., Washington, DC 20506, has been cancelled.

FOR FURTHER INFORMATION CONTACT: Laura S. Nelson at (202) 606-8322.

Cancellation

Date: March 15, 2001.

Time: 9 a.m. to 5:30 p.m.

Room: 730.

Program: This meeting will review applications for Humanities Projects in Media, submitted to the Division of Public Programs at the February 1, 2001 deadline.

Dated: March 28, 2001.
Laura S. Nelson,
Advisory Committee, Management Officer.

[FR Doc. 01-5370 Filed 3-5-01; 8:45 am]

BILLING CODE 7536-01-M